ENVIRONMENTAL PROTECTION AGENCY

40 CFR Part 180

[EPA-HQ-OPP-2010-0888; FRL-8888-3]

Chlorantraniliprole; Pesticide Tolerances; Correction

AGENCY: Environmental Protection Agency (EPA).

ACTION: Final rule; correction amendment.

SUMMARY: EPA issued a final rule in the Federal Register of July 27, 2011, concerning the regulation to establish pesticide tolerances for residues of chlorantraniliprole in or on multiple commodities. This document is being issued to correct an omission of the tolerance for Bushberry, subgroup 13-07B.

DATES: This final rule is effective September 28, 2011.

ADDRESSES: EPA has established a docket for this action under docket identification (ID) number EPA-HQ-OPP-2010-0888. All documents in the docket are listed in the docket index available in http://www.regulations.gov. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Bldg.), 2777 S. Crystal Dr., Arlington, VA. The Docket Facility is open from 8:30 a.m. to 4 p.m., Monday through Friday, excluding legal holidays. The Docket Facility telephone number is (703) 305-5805.

FOR FURTHER INFORMATION CONTACT: Rita Kumar, Registration Division (7505P), Office of Pesticide Programs, Environmental Protection Agency, 1200 Pennsylvania Ave., NW., Washington, DC 20460-0001; telephone number: (703) 308-8291; e-mail address: kumar.rita@epa.gov.

SUPPLEMENTARY INFORMATION:

I. Does this action apply to me?

The Agency included in the final rule a list of those who may be potentially affected by this action. If you have questions regarding the applicability of this action to a particular entity, consult the person listed under FOR FURTHER INFORMATION CONTACT.

II. What does this technical amendment Do?

This technical amendment adds Bushberry, subgroup 13-07B to the table in paragraph (a) to 40 CFR 180.628. On July 27, 2011 (76 FR 44815) (FRL-8875-5), the Registration Division issued in the Federal Register an amendment to 40 CFR 180.628. In the preamble to the final rule RD discussed the addition of several commodities and tolerances, including a tolerance for Bushberry, subgroup 13-07B. However, the tolerance for Bushberry was inadvertently omitted from the regulatory amendment and the table in 180.628. This technical amendment corrects that omission.

III. Why is this correction issued as a final rule?

Section 553 of the Administrative Procedure Act (APA), 5 U.S.C. 553(b)(3)(B), provides that, when an Agency for good cause finds that notice and public procedure are impracticable, unnecessary or contrary to the public interest, the Agency may issue a final rule without providing notice and an opportunity for public comment. EPA has determined that there is good cause for making this technical amendment final without prior proposal and opportunity for comment, because this omission was a typographical error. The tolerance for Bushberry, subgroup 13-07B was included in the petitioned for tolerances, exposure and risk evaluation, determination of safety, and conclusion sections of the Final Rule, FR Doc. 2011-18708 published in the Federal Register of July 27, 2011 (76 FR 44815-44821). EPA finds that this constitutes good cause under 5 U.S.C. 553(b)(3)(B).

IV. Do any of the statutory and Executive Order reviews apply to this action?

This technical amendment adds a tolerance that was inadvertently omitted from a previously published final rule and does not otherwise change the original requirements of the final rule. Since this rule corrects an omission, this action is not subject to the statutory and Executive Order review requirements. For information about the statutory and Executive Order review requirements as they related to the final rule, see Unit VI. in the Federal Register of July 27, 2011 (76 FR 44815-44821) (FRL-8875-5).

V. Congressional Review Act

The Congressional Review Act, 5 U.S.C. 801 et seq., generally provides that before a rule may take effect, the Agency promulgating the rule must submit a rule report to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: September 15, 2011.
Daniel J. Rosenblatt,
Acting Director, Registration Division, Office of Pesticide Programs.

Therefore, 40 CFR part 180 is amended as follows:

PART 180—[AMENDED]

1. The authority citation for part 180 continues to read as follows:

Authority: 21 U.S.C. 321(q), 346a and 371.

2. In § 180.628, in the table to paragraph (a), add the entry for bushberry, subgroup 13-07B to read as follows:

§ 180.628 Chlorantraniliprole; tolerances for residues.

(a) * * *

Commodity | Parts per million
* * * * *
Bushberry, subgroup 13-07B | 2.5
* * * * *

[FR Doc. 2011-24370 Filed 9-27-11; 8:45 am]

BILLING CODE 6560-50-P